ENVIRONMENTAL PROTECTION AGENCY

[FRL-6869-6]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in American Foundrymen's Society, et al. v. EPA, Civ. No. 00-1208 (D.C. Cir.), a case filed by the American Foundrymen's Society, the North American Die Casting Association, and the Non-Ferrous Founders' Society (“Petitioners”). This case concerns the National Emission Standard for Hazardous Air Pollutants for Secondary Aluminum Production (65 FR 15690, March 23, 2000). The proposed settlement agreement was lodged with the United States Court of Appeals for the District of Columbia Circuit on July 31, 2000.

DATES: Written comments on the proposed settlement agreement must be received by October 16, 2000.

ADDRESSES: Written comments should be sent to Timothy D. Backstrom, Air and Radiation Law Office (2344A), Office of General Counsel, U.S. Environmental Protection Agency, 1200 Pennsylvania Avenue, NW, Washington, DC 20460. Copies of the proposed settlement agreement are available from Phyllis J. Cochran, (202) 564-7606. A copy of the proposed settlement agreement was also lodged with the Clerk of the United States Court of Appeals for the District of Columbia Circuit on July 31, 2000.

FOR FURTHER INFORMATION CONTACT: On March 23, 2000, EPA published a final National Emission Standard for Hazardous Air Pollutants (“NESHAP”) for Secondary Aluminum Production establishing Maximum Achievable Control Technology (“MACT”) requirements for this source category. (40 part 63, subpart RRR, 65 FR 15690) As promulgated, this standard applies to certain major and area source aluminum foundries and aluminum die casting facilities. However, in the preamble to the final rule, we stated our intention to remove aluminum foundries and aluminum die casters from subpart RRR and to develop alternate MACT requirements for these sources. We intend to collect further information from all such facilities using our authority under CAA section 114, 42 U.S.C. 7414, and to make a new determination concerning the MACT floor and MACT requirements for these facilities based on this information. We are preparing an Advance Notice of Proposed Rulemaking (“ANPR”) announcing our intention to develop alternate MACT requirements for aluminum foundries and die casters, and a Proposed Rule to stay the effectiveness of Subpart RRR as applied to aluminum foundries and die casters during the pendency of the MACT rulemaking.

On May 16, 2000, the Petitioners filed a petition in the D.C. Circuit Court of Appeals for judicial review of the Secondary Aluminum NESHAP, which was docketed as American Foundrymen's Society et al. v. EPA, Civ. No. 00-1208. However, the parties in that action are in agreement that the issuance of a proposed rule to adopt alternate MACT requirements for aluminum foundries and die casters and a final rule to stay Subpart RRR as applied to these facilities should make the present petition for review moot and result in voluntary dismissal of the petition. Accordingly, the parties negotiated a settlement agreement describing the elements of this process, and have jointly moved the Court to hold the case in abeyance while the agreement is finalized and implemented.

The proposed settlement agreement provides that EPA will issue an ANPR announcing our intention to remove aluminum foundries and die casters from subpart RRR and to propose alternative MACT requirements for aluminum foundries and die casters, and a Proposed Rule to stay subpart RRR with respect to such sources, within six weeks. The agreement also provides that we will issue a Proposed Rule to remove aluminum foundries and die casters from subpart RRR and to adopt alternate MACT requirements for aluminum foundries and die casters, and will take final action concerning the proposed stay of subpart RRR with respect to such sources, within two years.

The agreement also allows individual foundries or die casters who are subject to subpart RRR to satisfy their Initial Notification requirements under 40 CFR 63.9 by timely submission of a portion of a complete response to the Information Collection Request (“ICR”) that we will be issuing to all aluminum foundries and die casters pursuant to CAA section 114. In the agreement, the Petitioners agree to use their best efforts to facilitate issuance of the ICR and the timely submission of responses to it by the facilities that receive it. The Petitioners also agree to cooperate with us to identify appropriate facilities at which emission testing will be conducted.

For a period of thirty (30) days following the date of publication of this notice, EPA will receive written comments relating to the proposed settlement agreement from persons who were not named as parties or interveners to the litigation in question. EPA or the Department of Justice may withdraw or withhold consent to the proposed consent decree if the comments disclose facts or considerations that indicate that such consent is inappropriate, improper, inadequate, or inconsistent with the requirements of the Act. Unless EPA or the Department of Justice determine, following the comment period, that consent is inappropriate, the settlement agreement will then be executed by the parties.

Dated: August 31, 2000.
Anna L. Wolgast,
Acting for General Counsel.

[FR Doc. 00-23649 Filed 9-13-00; 8:45 am]

BILLING CODE 6560-50-M